DEPARTMENT OF TRANSPORTATION

Federal Aviation Administration

14 CFR Part 71

[Airspace Docket No. 00-AGL-02]

Modification of Class E Airspace; Marquette, MI; Correction

AGENCY: Federal Aviation Administration (FAA), DOT.

ACTION: Final rule; correction.

SUMMARY: This action corrects two errors in the legal description of a final rule that was published in the Federal Register on Wednesday, July 26, 2000 (65 FR 45842), Airspace Docket No. 00-AGL-02. The final rule modified Class E Airspace at Marquette, MI.

EFFECTIVE DATE: 0901 UTC, October 5, 2000.

FOR FURTHER INFORMATION CONTACT: Dennis C. Burke, Air Traffic Division, Airspace Branch, AGL-520, Federal Aviation Administration, 2300 East Devon Avenue, Des Plaines, IL 60018; telephone: (847) 294-7477.

SUPPLEMENTARY INFORMATION:

History

Federal Register Document 00-18893, Airspace Docket No. 00-AGL-02, published on July 26, 2000 (65 FR 45842), modified Class E Airspace at Marquette, MI. Two errors in the legal description for the Class E airspace for Marquette, MI, were published. This action corrects those errors.

Correction to Final Rule

Accordingly, pursuant to the authority delegated to me, the legal description for the Class E airspace, Marquette, MI, as published in the Federal Register July 26, 2000 (65 FR 45842, FR Doc. 00-18893), is corrected as follows:

PART 71—[CORRECTED]

§ 71.1 [Corrected]

On page 45842, Column 3, line 9 from the top of the column, correct “7.1-miles” to read “7.1-mile” and on page 45842, Column 3, line 16 from the top of the column, correct “east” to read “west”.

Christopher R. Blum,
Manager, Air Traffic Division.

[FR Doc. 00-21492 Filed 8-22-00; 8:45 am]

BILLING CODE 4910-13-M